DEPARTMENT OF JUSTICE

Notice of Lodging Proposed Consent Decrees

In accordance with Departmental Policy, 28 CFR 50.7, notice is hereby given that two proposed consent decrees in United States v. David P. Burkel, Sr., Douglas Ackling and Duane Moench, Civ. Act. No. A3-00-165, were lodged with the United States District Court for the District of North Dakota on June 18, 2003. These proposed Consent Decrees concern a complaint filed by the United States of America against Defendants David P. Burkel, Sr., Douglas Ackling and Duane Moench, pursuant to sections 301(a) and 404 of the Clean Water Act, 33 U.S.C. 1311(a) and 1344, to obtain injunctive relief and impose civil penalties against the Defendants for discharging dredged or fill material into waters of the United States without a permit. In addition, the complaint seeks injunctive relief and civil penalties against Defendant David P. Burkel, Sr., pursuant to section 308 of the Clean Water Act, 33 U.S.C. 1318, for failure to adequately respond to information requests propounded by the United States Environmental Protection Agency.

The first Consent Decree is entered into between the United States and Defendant David P. Burkel, Sr. That Consent Decree (a) prohibits Defendant Burkel from discharging any pollutant into waters of the United States without complying with the Clean Water Act or its implementing regulations; (b) requires him to perform a restoration/mitigation plan; and (c) requires him to pay a civil penalty.

The second Consent Decree is entered into between the United States and Defendants Douglas Ackling and Duane Moench.That Consent Decree (a) prohibits Defendants Ackling and Moench from discharging any pollutant into waters of the United States without complying with the Clean Water Act or its implementing regulations, and (b) requires them each to pay a civil penalty.

The Department of Justice will accept written comments relating to these proposed Consent Decrees for thirty (30) days from the date of publication of this notice. Please address comments to Daniel W. Pinkston, Environmental Defense Section, U.S. Department of Justice, 999—18th Street, Suite 945 North, Denver, Colorado 80202, and refer to United States v. David P. Burkel, Sr., et al., Civ. Act. No. A3-00-165 (D.N.D.), DJ # 90-5-1-1-05709.

The proposed Consent Decrees may be examined at the Clerk's Office, United States District Court for the District of North Dakota, Quentin N. Burdick United States Courthouse, 655 1st Avenue, North, Room 130, Fargo, North Dakota 58102-4932. In addition, the proposed Consent Decrees may be viewed on the World Wide Web at http://www.usdoj.gov/enrd/open.html.

Scott Schachter,
Assistant Section Chief, Environmental Defense Section, Environment and Natural Resources Division.

[FR Doc. 03-16071 Filed 6-24-03; 8:45 am]

BILLING CODE 4410-15-M